DEPARTMENT OF HEALTH AND HUMAN SERVICES

Health Resources and Services Administration

Notice of Single Source Award to the Genesee County Health Department for Addressing and Preventing Lead Exposure Through Healthy Start in Genesee County, Michigan

AGENCY: Health Resources and Services Administration, HHS.

ACTION: Notice of single source award.

SUMMARY: HRSA announces its intent to award up to $14,975,000 for a cooperative agreement to the Genesee County Health Department, which operates the Genesee County Healthy Start program. The purpose of this cooperative agreement is to expedite and strengthen the ongoing response to address the health effects of lead exposure resulting from the Flint, MI, public water supply contamination.

SUPPLEMENTARY INFORMATION:

Intended Recipient of the Award: Genesee County Health Department.

Amount of Non-Competitive Awards: Up to $14,975,000.

Period of Funding: July 1, 2017-June 30, 2022.

CFDA Number: 93.926.

Authority: Water Infrastructure Improvements for the Nation (WIIN) Act (Pub. L. 114-322); Section 330H of the Public Health Service Act (42 U.S.C. 254c-8), as amended by Public Law 110-339, Section 2; and Further Continuing and Security Assistance Appropriations Act, 2017 (Pub. L. 114-254).

Justification: Flint, MI, and the surrounding community continues to experience ongoing health needs, particularly among pregnant women and young children, associated with elevated levels of lead in the public water supply resulting from the city's switch from the Detroit Water Authority to the Flint Water Systems between April 2013 and October 2015.

On January 5, 2016, the state of Michigan declared a state of emergency for Genesee County, which includes the city of Flint, authorizing the use of state resources to address the public health crisis created by the elevated levels of lead in the public water system. On January 16, 2016, a federal emergency was declared for the state of Michigan and authorized federal assistance to provide water, water filters, water filter cartridges, water test kits, and other necessary related items.

Prenatal lead exposure can affect fertility, the likelihood of miscarriage, pre-term birth, low birth weight, infant neurodevelopment, and gestational hypertension. Of particular concern are the long-term effects in children such as developmental and cognitive delays, and behavioral disorders. The Healthy Start program aims to reduce disparities in infant mortality and improve perinatal and child health outcomes. To advance this mission, the goal of this program is to minimize developmental delays among lead-exposed children up to age 6 in Flint and the surrounding Genesee County area by connecting them to appropriate screening, services, and supports.

Thus, HRSA intends to award a one-time, single source cooperative agreement to the Genesee County Health Department to expedite and strengthen the ongoing response to address the health effects of lead exposure resulting from the Flint, MI, public water supply contamination. This award will enable the Genesee County Health Department to continue to play a vital role in assuring all pregnant women and children impacted by lead contamination in Genesee County have access to comprehensive health and social services. With these funds, the Genesee County Health Department will leverage its existing Healthy Start infrastructure and in-depth understanding of the maternal and child population in Genesee County to assess, mitigate, and provide consultation to pregnant women and children up to age 6 that may be impacted by lead exposure during the Flint water crisis. Activities under this award include identifying children in Flint and the surrounding Genesee County area who have been affected by lead exposure to assess their receipt of recommended services in order to minimize developmental delay, and coordinating access to appropriate medical, behavioral, and developmental screening, services, and supports for impacted women, children, and their families. As the only Healthy Start grantee in the only community that had a federal emergency declaration concerning lead contamination in the last year, Genesee County Healthy Start has both the program and response infrastructure in place to immediately implement these enhanced activities.

This award will supplement, but not supplant, other federal resources currently dedicated to this effort, including activities previously funded under the current Healthy Start grant. Several federal agencies, such as the Centers for Medicare & Medicaid Services, have provided funds to organizations in Flint and Genesee County to support prevention, treatment, and remediation initiatives to address lead contamination in the community. This award should build upon, but not duplicate federal and local efforts. Activities under this award also align with existing lead response activities and involve close collaboration with broader community health system organizations, families, health professionals, local social support and health systems, community-based organizations, and early childhood systems, etc. This approach should ensure access to family-centered and comprehensive health and social services for all pregnant women and children up to age 6 years and their families impacted by lead contamination in Genesee County.

FOR FURTHER INFORMATION CONTACT: Robert Windom, Division of Healthy Start and Perinatal Services, Maternal and Child Health Bureau, Health Resources and Services Administration, 5600 Fishers Lane, Room 18N78, Rockville, Maryland 20852, (301) 443-8283, RWindom@hrsa.gov. For media inquiries, please contact press@hrsa.gov.

Dated: June 26, 2017.
George Sigounas,
Administrator.

[FR Doc. 2017-14274 Filed 7-6-17; 8:45 am]

BILLING CODE 4165-15-P